NUCLEAR REGULATORY COMMISSION

[Docket No. 030-34730]

Notice of Finding of No Significant Impact and Availability of Environmental Assessment for License Amendment of Materials License No. 07-00455-40, Bristol-Myers Squibb Pharma Company, Wilmington, DE

ACTION: Notice of availability of Environmental Assessment and Finding of No Significant Impact.

FOR FURTHER INFORMATION CONTACT: Sattar Lodhi, Nuclear Materials Safety Branch 2, Division of Nuclear Materials Safety, Region I, 475 Allendale Road, King of Prussia, Pennsylvania, 19406; telephone (610) 337-5364; fax (610) 337-5269; or by e-mail: ASL@nrc.gov.

SUPPLEMENTARY INFORMATION:

I. Introduction

The U.S. Nuclear Regulatory Commission (NRC) is considering the issuance of a license amendment to Bristol-Myers Squibb Pharma Company for Materials License No. 07-00455-40, to authorize release of its facilities in Wilmington, Delaware for unrestricted use and has prepared an Environmental Assessment (EA) in support of this action in accordance with the requirements of 10 CFR part 51. Based on the EA, the NRC has concluded that a Finding of No Significant Impact (FONSI) is appropriate.

II. EA Summary

The purpose of the proposed action is to allow for the release of the licensee's Wilmington, Delaware, facilities for unrestricted use. The subject license was originally issued to DuPont Pharmaceuticals Company on February 25, 1999, to use licensed material at the site. Bristol-Myers Squibb Pharma Company acquired the license on October 9, 2001, and continued the use of radioactive materials for research and development, and preparation and distribution of radioactive drugs at the site. On April 29, 2003, Bristol-Myers Squibb Pharma Company requested that NRC release the facility for unrestricted use. Bristol-Myers Squibb Pharma Company has conducted surveys of the facility and determined that the facility meets the license termination criteria in subpart E of 10 CFR part 20.

III. Finding of No Significant Impact

The NRC staff has evaluated Bristol-Myers Squibb Pharma Company's request and the results of the surveys and has concluded that the completed action complies with 10 CFR part 20. The staff has prepared the EA (summarized above) in support of the proposed license amendment to terminate the license and release the facility for unrestricted use. On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML033170352, ML031330024, ML031360368, ML031400814, ML031400824, ML031400830, ML031400836, ML031400847, ML031400886, and ML031400887). These documents are also available for inspection and copying for a fee at the Region I Office, 475 Allendale Road, King of Prussia, Pennsylvania, 19406.

Dated at King of Prussia, Pennsylvania, this 14th day of November, 2003.
For the Nuclear Regulatory Commission.
John R. McGrath,
Acting Chief, Nuclear Materials Safety Branch 2, Division of Nuclear Materials Safety, Region I.

[FR Doc. 03-29245 Filed 11-21-03; 8:45 am]

BILLING CODE 7590-01-P